DEPARTMENT OF ENERGY

Federal Energy Regulatory Commission

[Docket Nos. TS05-19-000, TS05-21-000]

Chandeleur Pipe Line Company, Sabine Pipe Line LLC; Notice of Filing

February 28, 2006.

On August 23, 2005 and October 5, 2005, the above-referenced companies filed a request for extension of time to comply with section 358.4(b)(3)(iv) of the Commission's regulations. This rule requires that the postings required by sections 358.4(b)(2) and 358.4(b)(3)(i), (ii) of the Commission's rules be updated within seven business days of any change.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit and original and 14 copies of the protest or intervention to the Federal Energy Regulatory Commission, 888 First Street, NE., Washington, DC 20426.

These filings are accessible online at http://www.ferc.gov using the “eLibrary” link and are available for review in the Commission's Public Reference Room in Washington, DC. There is an “eSubscription” link on the Web site that enables subscribers to receive e-mail notification when a document is added to a subscribed docket(s). For assistance with any FERC Online service, please e-mail FERCOnlineSupport@ferc.gov or call (866) 208-3676 (toll free). For TYY, call (202) 502-8659.

Comment Date: March 14, 2006.

Magalie R. Salas,
Secretary.

[FR Doc. E6-3191 Filed 3-7-06; 8:45 am]

BILLING CODE 6717-01-P